DEPARTMENT OF STATE

[Public Notice 4152]

Notice of Meetings: United States International Telecommunication Advisory Committee Preparations for Various Telecommunication Standardization Meetings

The Department of State announces meetings of the U.S. International Telecommunication Advisory Committee (ITAC). The purpose of the Committee is to advise the Department on policy, technical and operational issues with respect to international telecommunications standardization bodies such as the International Telecommunication Union.

The ITAC will meet to prepare for the February 2003 meeting of the Telecommunication Sector Advisory Group (TSAG) on October 30, November 19, and December 19, 2002 from 9:30 to noon at locations in the Washington, DC area to be determined.

Members of the public will be admitted to the extent that seating is available, and may join in the discussions, subject to the instructions of the Chair. Directions to the meeting location and on which entrance to use may be determined by calling the ITAC Secretariat at 202-647-0965, 202-647-2592 or e-mail to minardje@state.gov.

Dated: October 17, 2002.
Cecily Holiday,
Director, Radiocommunication Standardization, Department of State.

[FR Doc. 02-26852 Filed 10-18-02; 8:45 am]

BILLING CODE 4710-45-P